DEPARTMENT OF ENERGY

Federal Energy Regulatory Commission

[Docket Nos. CP15-550-000; CP15-551-001]

Notice of Anticipated Schedule of Final Order for the Calcasieu Pass Project: Venture Global Calcasieu Pass, LLC; TransCameron Pipeline, LLC

On September 4, 2015, Venture Global Calcasieu Pass, LLC filed an application in Docket No. CP15-550-000, pursuant to section 3 of the Natural Gas Act (NGA) and Part 153 of the Commission's regulations, for authorization to site, construct, and operate a new liquefied natural gas (LNG) export terminal and associated facilities along the Calcasieu Ship Channel in Cameron Parish, Louisiana. On the same day, TransCameron Pipeline, LLC filed an application in Docket No. CP15-551-000 requesting a Certificate of Public Convenience and Necessity pursuant to section 7(c) of the NGA to construct, operate, and maintain certain natural gas pipeline facilities. The combined proposed projects, known as the Calcasieu Pass Project (Project), would liquefy and export about 12 million tons per annum of LNG.

In accordance with Title 41 of the Fixing America's Surface Transportation Act, enacted on December 4, 2015, agencies are to publish completion dates for all federal environmental reviews and authorizations. This notice identifies the Commission's anticipated schedule for issuance of the final order for the Project, which is based on the anticipated date of issuance of the final Environmental Impact Statement. Accordingly, we currently anticipate issuing a final order for the Project no later than:

Issuance of Final Order—January 22, 2019

If a schedule change becomes necessary for the final order, an additional notice will be provided so that interested parties and government agencies are kept informed of the Project's progress.

Dated: August 31, 2018.
Nathaniel J. Davis, Sr.,
Deputy Secretary.

[FR Doc. 2018-19389 Filed 9-6-18; 8:45 am]

BILLING CODE 6717-01-P